COMMODITY FUTURES TRADING COMMISSION

Agency Information Collection Activities Under OMB Review

AGENCY: Commodity Futures Trading Commission.

ACTION: Notice.

SUMMARY: The Office of Customer Education and Outreach (OCEO), Commodity Futures Trading Commission (“CFTC” or “Commission”), invites public comment on its proposed Information Collection Request (ICR), in compliance with the Paperwork Reduction Act (PRA), for the Generic Clearance for the Qualitative Collection of Feedback for Agency Service Delivery. The ICR abstracted below, has been submitted to the Office of Management and Budget (OMB) for approval. The ICR describes the nature of the information collection and its expected costs and burden.

DATES: Comments must be submitted on or before June 9, 2016.

FOR FURTHER INFORMATION CONTACT: Nisha Smalls, Office of Customer Education and Outreach, Commodity Futures Trading Commission, 1155 21st Street NW., Washington, DC 20581, (202) 418-5895; FAX: (202) 418-5541; email: nsmalls@cftc.gov and refer to this Federal Register notice.

ADDRESSES: Comments regarding the burden estimated or any other aspect of the information collection, including suggestions for reducing the burden, may be submitted directly to the Office of Information and Regulatory Affairs (OIRA) in OMB, within 30 days of the notice's publication, by email at OIRAsubmissions@omb.eop.gov. Please identify the comments by OMB Control No. 3038-0107. Please provide the Commission with a copy of all submitted comments at the address listed below. Please refer to OMB Reference No. 3038-0107, found on http://reginfo.gov. Comments may also be mailed to the Office of Information and Regulatory Affairs, Office of Management and Budget, Attention: Desk Officer for the Commodity Futures Trading Commission, 725 17th Street NW., Washington, DC 20503, or submitted through the Agency's Web site at http://comments.cftc.gov. Follow the instructions for submitting comments through the Web site.

Comments may also be mailed to: Christopher Kirkpatrick, Secretary of the Commission, Commodity Futures Trading Commission, Three Lafayette Centre, 1155 21st Street NW., Washington, DC 20581 or by Hand Delivery/Courier at the same address.

A copy of the supporting statements for the collection of information discussed above may be obtained by visiting reginfo.gov. All comments must be submitted in English, or if not, accompanied by an English translation. Comments will be posted as received to http://www.cftc.gov.

SUPPLEMENTARY INFORMATION Title: Generic Clearance for the Qualitative Collection of Feedback for Agency Service Delivery.

Abstract: The information collection activity will consist of a variety of activities over the next few years including customer outreach and information-sharing with stakeholders that are responsive to customers' needs and sensitive to changes in the customer market. The proposed information collection activities will use similar methods for information collection or otherwise share common elements, and provide a means to gather customer and stakeholder feedback in an efficient, timely manner. By feedback we mean information that provides useful information on perceptions and opinions. The solicitation of information will address such areas as appropriate messages, effective message delivery methods, effective programming, programming needs, and customer beliefs, psychographics and social norms that will assist the agency in developing outreach and communications plans. Since these systems will use similar methods for information collection or otherwise share common elements, the OCEO is proposing a generic clearance for this process which will allow the OCEO to implement these systems and meet the obligations of the PRA without the delays of the normal clearance process. The Federal Register notice with a 60-day comment period soliciting comments on this collection of information was published on March 4, 2016 (81 FR 11520).

Burden statement: The preliminary estimate of aggregate burden for this generic clearance follows. The estimate of the number of respondents is a projection and could change significantly based on the collection method ultimately used in the research.

Respondents/Affected Entities: 1,440.

Estimated number of responses: 10 per year.

Estimated total annual burden on respondents: 14,400 responses.

Frequency of collection: Once per request.

Average minutes per response: 120.

Estimated total annual burden hours requested: 28,800 hours.

Authority: 44 U.S.C. 3501 et seq.

Dated: May 4, 2016.
Robert N. Sidman,
Deputy Secretary of the Commission.

[FR Doc. 2016-10847 Filed 5-9-16; 8:45 am]

BILLING CODE 6351-01-P